DEPARTMENT OF ENERGY

Federal Energy Regulatory Commission

[Docket No. AD10-11-000]

Frequency Regulation Compensation in the Organized Wholesale Power Markets; Further Notice Concerning Technical Conference

May 25, 2010.

Take notice that on May 26, 2010, the Federal Energy Regulatory Commission staff will convene a technical conference related to the Commission's Notice of Proposed Rulemaking on Frequency Regulation Compensation in the Organized Wholesale Power Markets, as previously announced.¹

¹ Notice of Technical Conference re Frequency Compensation in the Organized Wholesale Power Markets, 75 FR 23,759, as supplemented by Supplemental Notice of Technical Conference re Frequency Compensation in the Organized Wholesale Power Markets, issued April 27, 2010.

The discussions at the conference, which is open to the public, may address matters at issue in the following Commission proceedings:

Docket No. ER09-1049-000, Midwest Independent Transmission System Operator, Inc.

Docket No. ER09-1126-000, Midwest Independent Transmission System Operator, Inc.

Docket No. ER07-1372-000, Midwest Independent Transmission System Operator, Inc.

For more information, please contact Tatyana Kramskaya, 202-502-6262, tatyana.kramskaya@ferc.gov; or Eric Winterbauer, 202-502-8329, eric.winterbauer@ferc.gov.

Kimberly D. Bose,
Secretary.

[FR Doc. 2010-13271 Filed 6-1-10; 8:45 am]

BILLING CODE 6717-01-P